DEPARTMENT OF TRANSPORTATION

Surface Transportation Board

[Docket No. FD 35910]

Indiana Harbor Belt Railroad Company—Lease and Operation Exemption—Rail Line of Norfolk Southern Railway Company

Indiana Harbor Belt Railroad Company (IHB), a Class III rail carrier, has filed a verified notice of exemption under 49 CFR 1150.41 to lease from Norfolk Southern Railway Company, and to operate, a 0.87-mile line of railroad (including branch lines) known as the Old Hammond Industrial Track, between milepost UO 0.03 and milepost UO 0.9 (including the underlying right-of-way between milepost UO 0.06 and milepost UO 0.9) in Cook County, Ill.

IHB certifies that the projected annual revenues as a result of this transaction will not result in the creation of a Class II or Class I rail carrier and will not exceed $5 million. According to IHB, the lease does not contain any provision or agreement that may limit future interchange of traffic with a third-party connecting carrier.

The proposed transaction may be consummated on or after April 15, 2015, the effective date of this exemption (30 days after the verified notice was filed). If the verified notice contains false or misleading information, the exemption is void ab initio. Petitions to revoke the exemption under 49 U.S.C. 10502(d) may be filed at any time. The filing of a petition to revoke will not automatically stay the effectiveness of the exemption. Petitions to stay must be filed by April 8, 2015 (at least seven days prior to the date the exemption becomes effective).

An original and 10 copies of all pleadings, referring to Docket No. FD 35910, must be filed with the Surface Transportation Board, 395 E Street SW., Washington, DC 20423-0001. In addition, a copy of each pleading must be served on applicant's representative, Roger A. Serpe, General Counsel, Indiana Harbor Belt Railroad Company, 55 W. Monroe Street Suite 1600, Chicago, IL 60603.

Board decisions and notices are available on our Web site at “WWW.STB.DOT.GOV.”

Decided: March 27, 2015.
By the Board, Rachel D. Campbell, Director, Office of Proceedings.
Jeffrey Herzig,
Clearance Clerk.

[FR Doc. 2015-07560 Filed 3-31-15; 8:45 am]

BILLING CODE 4915-01-P